FEDERAL COMMUNICATIONS COMMISSION

Deletion of Consent Agenda Items From Sunshine Act Meeting

May 25, 2016.

The following consent agenda has been deleted from the list of items scheduled for consideration at the Wednesday, May 25, 2016, Open Meeting and previously listed in the Commission's Notice of May 18, 2016. Items 1, 5 and 6 on the consent agenda have been adopted by the Commission.

Consent Agenda
1 | MEDIA | TITLE: PMCM TV, LLC Licensee of Station WJLP(TV), Middletown Township, New Jersey. SUMMARY: The Commission will consider an Order concerning a Consent Decree entered into between the Commission and PMCM TV, LLC regarding compliance with children's programming requirements.
2 | ENFORCEMENT | TITLE: Enforcement Bureau Action. SUMMARY: The Commission will consider whether to take an enforcement action.
3 | ENFORCEMENT | TITLE: Enforcement Bureau Action. SUMMARY: The Commission will consider whether to take an enforcement action.
4 | ENFORCEMENT | TITLE: Enforcement Bureau Action. SUMMARY: The Commission will consider whether to take an enforcement action.
5 | ENFORCEMENT | TITLE: Enforcement Bureau Action. SUMMARY: The Commission will consider whether to take an enforcement action.
6 | ENFORCEMENT | TITLE: Enforcement Bureau Action. SUMMARY: The Commission will consider whether to take an enforcement action.

Federal Communication Commission.
Marlene H. Dortch,
Secretary.

[FR Doc. 2016-13089 Filed 6-2-16; 8:45 am]

BILLING CODE 6712-01-P